DEPARTMENT OF THE INTERIOR

National Park Service

General Management Plan/Environmental Impact Statement, Montezuma Castle National Monument and Tuzigoot National Monument, Arizona

AGENCY: National Park Service, Interior.

ACTION: Notice of Intent to prepare an environmental impact statement for the general management plan, Montezuma Castle National Monument and Tuzigoot National Monument, Arizona.

SUMMARY: Under the provisions of the National Environmental Policy Act, the National Park Service is preparing an environmental impact statement for the general management plan for Montezuma Castle National Monument and Tuzigoot National Monument, Arizona. The environmental impact statement will be approved by the Director, Intermountain Region.

Montezuma Castle National Monument and Tuzigoot National Monument are located in Yavapai County, Arizona. Montezuma Castle was established in 1906 under the authority of the Antiquities Act. The proclamation states it “* * * is of the greatest ethnological value and scientific interest * * *” (Presidential Proclamation No. 696, December 8, 1906, 34 Stat. 3265). Montezuma Well was added in 1943 as a detached unit of the monument with an act of Congress (October 19, 1943, 57 Stat. 572).

Tuzigoot National Monument was established by presidential proclamation on July 25, 1939. The proclamation states that “certain Government-owned lands in the State of Arizona have situated there on historic and prehistoric structures and other historic objects of historic or scientific interest, and * * * it would be in the public interest to reserve such lands as a national monument to be known as Tuzigoot National Monument.” Public Law 95-625 (March 1978) expanded the boundary by approximately 791 acres.

The general management plan will prescribe the resource conditions and visitor experiences to be achieved and maintained in the monuments over the next 15 to 20 years. The clarification of what must be achieved according to law and policy will be based on review of the monuments' purpose, significance, special mandates, and the body of laws and policies directing management of the monuments. Management decisions to be made where law, policy, or regulations do not provide clear guidance or limits will be based on the purpose of the monuments, the range of public expectations and concerns, resource analysis, an evaluation of the natural, cultural, and social impacts of alternative courses of action, and consideration of long-term economic costs. Based on determinations of desired conditions, the general management plan will outline the kinds of resource management activities, visitor activities, and development that would be appropriate in the monuments in the future. Alternatives will be developed through this planning process and will include, at a minimum, the no-action and preferred alternative.

Major issues include protection of natural and cultural resources, providing for visitor enjoyment and understanding, and evaluating potential boundary expansions. Potential partnerships will be explored with other agencies, organizations, and local interests.

DATES: The National Park Service will conduct public scoping for 60-days from the date of publication of this notice in the Federal Register. Open houses regarding the general management plan will be held during the public scoping period. Specific dates, times, and locations will be announced in the local media and will also be available by contacting the superintendent of Montezuma Castle and Tuzigoot National Monuments.

ADDRESSES: Throughout the scoping and planning process, information will be available for public review and comment in the office of the superintendent (Kathy M. Davis, Montezuma Castle and Tuzigoot National Monuments, PO Box 219, Camp Verde, AZ 86322-0219).

FOR FURTHER INFORMATION CONTACT: Superintendent Kathy M. Davis, Montezuma Castle and Tuzigoot National Monuments, PO Box 219, Camp Verde, AZ 86322-0219: TEL (928) 567-5276; FAX: (928) 567-3597; e-mail: kathy_m_davis@nps.gov.

SUPPLEMENTARY INFORMATION: If you wish to comment on the general management planning process for Montezuma Castle and Tuzigoot National Monuments, or on any issues associated with the plan, you may submit your comments by any one of several methods. You may mail comments to Superintendent Kathy M. Davis, Montezuma Castle and Tuzigoot National Monuments, PO Box 219, Camp Verde, AZ 86322-0219. You may also e-mail comments to kathy_m_davis@nps.gov. You may also hand-deliver comments to the Montezuma Castle and Tuzigoot National Monuments visitor centers. Our practice is to make comments, including names and home addresses of respondents, available for public review during regular business hours. Individual respondents may request that we withhold their home address from the record, which we will honor to the extent allowable by law. There also may be circumstances in which we would withhold from the record a respondent's identity, as allowable by law. If you wish us to withhold your address, you must state this prominently at the beginning of your comments. We will make all submissions from organizations or businesses and from individuals identifying themselves as representatives or officials of organizations or businesses available for public inspection in their entirety.

Dated: May 1, 2003.
Karen P. Wade,
Director, Intermountain Region.

[FR Doc. 03-13339 Filed 5-28-03; 8:45 am]

BILLING CODE 4312-EJ-P